ENVIRONMENTAL PROTECTION AGENCY

[ER-FRL-6642-6]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 4, 2003 (68 FR 16511).

Draft EISs

ERP No. D-AFS-J65383-MT Rating EC2, Logan Creek Ecosystem Restoration Project, Hazardous Fuel Reduction across the Landscape and Vegetation Management Restoration or Maintenance, Flathead National Forest, Tally Lake Ranger District, Flathead County, MT.

Summary: EPA expressed environmental concerns with public health and safety issues and recommended the final EIS include a comprehensive risk notification and communication program for the community. The final EIS should also include additional information on facility design, safety features and risk assessment and analysis.

ERP No. D-AFS-K65256-NV Rating EO2, Jarbidge Canyon Project, Road Management Plan Implementation, Water Projects Construction along Charleston-Jarbidge Road and South Canyon Road Reconstruction, Humbolt-Toiyabe National Forest, Jarbidge Ranger District, Elko County, NV.

Summary: EPA expressed environmental objections on the Proposed Action due to projected violations of Federally approved water quality standards and potential impacts to waters of the United States (including special aquatic sites) regulated under the Clean Water Act Section 404. EPA requested that the Final EIS include appropriate water quality mitigation to avoid violating water quality standards and to address the project's consistency with Section 404.

ERP No. D-CGD-G03021-LA Rating LO, Port Pelican Deepwater Port Construction and Operation, License Approval, Vermillion Lease Block 140 on the Continental Shelf in the Gulf of Mexico southwest of Freshwater City, LA.

Summary: EPA had no objection to the preferred alternative. ERP No. D-NIH-J81012-MT Rating EC2, Rocky Mountain Laboratories (RML) Integrated Research Facility, Construction and Operation, To Improve the Nation's Ability to Study and Combat Emerging Infectious Disease and to Protect Public Health, Hamilton, Ravalli County, MT.

Summary: EPA expressed environmental concerns regarding the need to better address public health and safety concerns, and recommended development of a comprehensive risk notification and communication program for the local community. EPA also believes additional information on risk assessment and analysis should be disclosed, and questions, comments, and concerns on alternatives and on facility design and safety features should be addressed in the final EIS.

ERP No. DC-FHW-D40118-00 Rating EC1, Appalachian Corridor H Project, Construction of a 10-mile Highway between the Termini of Parsons and Davis, New Information concerning One or More Alignment Shifts for the Thomas-Davis Section of the Parsons-to-Davis Project, Funding and US Army COE Section 404 Permit Issuance, Tucker County, WV.

Summary: EPA has environmental concerns regarding the proposed project with respect to the endangered West Virginia Northern Flying Squirrel. Potential habitat exists within the entire study area. EPA encourages the continued coordination already underway with U.S. Fish and Wildlife Service to identify the most appropriate alternative to limit the impact to such an important species as well as valued resources.

Final EISs

ERP No. F-MMS-E02012-00; Eastern Gulf of Mexico Outer Continental Shelf Oil and Gas Lease Sales 189 (proposed for 2003) and 197 (proposed for 2005) Leasing Program 2002-2007, Eastern Planning Area, Counties and Parishes of TX, LA, MS, AL and FL.

Summary: While EPA has no objection to the proposed action since previous issues have been resolved, EPA did request clarification regarding presentation of deep drilling parameters and the importance of complete quantification of impacts from discharges of drilling muds and cuttings.

ERP No. F-NOA-E91011-00 Northeast Skate Complex Fishery Management Plan, Implementation of Management Measures, Magnuson-Stevens Fishery Conservation and Management Act, New England Fishery Management Council.

Summary: EPA expressed a lack of objection to the strategies as proposed in the FEIS.

ERP No. F-NPS-H65011-MO Wilson's Creek National Battlefield General Management Plan, Implementation, Battle of Wilson's Creek Commemoration and Associated Battlefield Preservation, Greene and Christian Counties, MO.

Summary: EPA did not express objections to the preferred Management Plan.

ERP No. FS-AFS-J65334-MT Keystone-Quartz Ecosystem Management Plan, Implementation, Updated Information on Alternatives, Beaverhead-Deerlodge National Forest, Wise River Ranger District, Beaverhead County, MT.

Summary: While EPA supports the Forest Service's preferred alternative to manage and treat Douglas-fir, lodgepole pine and aspen forest we expressed environmental concerns with potential impacts to water quality from existing low standard roads.

ERP No. FS-AFS-L65300-ID Goose Creek Watershed Project, Reviewing and Updating Information Regarding the Pileated Woodpecker and Soil Impacts, Payette National Forest, New Meadows Ranger District, Adam County, ID.

Summary: No formal comment letter was sent to the preparing agency.

ERP No. FS-AFS-L65325-ID Sloan-Kennally Timber Sale Project, Reviewing and Updating Information Regarding the Pileated Woodpecker and Soil Impacts, Payette National Forest, McCall Ranger District, Adam County, ID.

Summary: No formal comment letter was sent to the preparing agency.

ERP No. FS-AFS-L65336-ID Brown Creek Timber Sale Project, Reviewing and Updating Information Regarding the Pileated Woodpecker and Soil Impacts, Payette National Forest, New Meadow Ranger District, Adam County, ID.

Summary: No formal comment letter was sent to the preparing agency.

ERP No. FS-AFS-L65346-ID Middle Fork Weiser River Watershed Project, Reviewing and Updating Information Regarding the Pileated Woodpecker and Soil Impacts, Payette National Forest, Council Ranger District, Adam County, ID.

Summary: No formal comment letter was sent to the preparing agency.

ERP No. FS-AFS-L65379-ID Little Weiser Landscape Vegetation Management Project, Reviewing and Updating Information Regarding the Pileated Woodpecker and Soil Impacts, Payette National Forest, Adam County, ID.

Summary: No formal comment letter was sent to the preparing agency.

ERP No. FS-NOA-A64058-00 Pelagic Sargassum Habitat Fishery Management Plan, Implementation, Updated Information concerning the Public's Opportunity to Comment on Proposed Actions, South Atlantic Region.

Summary: EPA expressed environmental concerns regarding the harvest of Sargassum due to the loss of its nursery habitat value for endangered juvenile species such as sea turtle hatchlings, small sized species and pelagic adult species.

Dated: July 29, 2003.
Joseph C. Montgomery,
Director, NEPA Compliance Division, Office of Federal Activities.

[FR Doc. 03-19642 Filed 7-31-03; 8:45 am]

BILLING CODE 6560-50-P